DEPARTMENT OF AGRICULTURE

Forest Service

Public Meetings of the Black Hills National Forest Advisory Board

AGENCY: Forest Service, USDA.

ACTION: Notice of meetings.

SUMMARY: The Black Hills National Forest Advisory Board (NFAB) will hold meetings to become informed about Black Hills National Forest issues and to consider those issues so as to make management recommendations to the forest supervisor. The meetings are open, and the public may attend any part of the meetings.

Dates and Agenda Issues:

• Wednesday, December 8, 2004 from 1 to 5 p.m.—Phase II Amendment/Board Bylaw Changes.

• Wednesday, January 5, 2005 from 1 to 5 p.m.—Phase II Amendment.

• Wednesday, February 16, 2005 from 1 to 5 p.m.—To be announced through local news media.

• Wednesday, Marcy 16, 2005 from 1 to 5 p.m.—To be announced through local news media.

• Wednesday, April 20, 2005 from 1 to 5 p.m.—To be announced through local news media.

• Wednesday, May 18, 2005 from 1 to 5 p.m.—To be announced through local news media.

ADDRESSES: SDSU West River Ag Center, 1905 Plaza Boulevard, Rapid City, SD.

FOR FURTHER INFORMATION CONTACT: Frank Carroll, Black Hills National Forest, 25041 North Highway 16, Custer, SD 57730, (605) 673-9200.

Dated: November 22, 2004.
Dorothy FireCloud,
Black Hills National Forest Acting Deputy Forest Supervisor.

[FR Doc. 04-26317 Filed 11-26-04; 8:45 am]

BILLING CODE 3410-11-M